DELAWARE RIVER BASIN COMMISSION

Notice of Commission Meeting and Public Hearing

Notice is hereby given that the Delaware River Basin Commission will hold an informal conference followed by a public hearing on Thursday, October 22, 2009. The hearing will be part of the Commission's regular business meeting. The conference session and business meeting both are open to the public and will be held at the Commission's office building, located at 25 State Police Drive, West Trenton, New Jersey.

The conference among the commissioners and staff will begin at 10:45 a.m. and will consist of an update on implementation of the 2004 Water Resources Plan for the Delaware River Basin (the “Basin Plan”); recommendations of the Flood Advisory Committee (FAC) on floodplain management; and a presentation by a Decree Party representative on New York City's planned temporary tunnel shutdown.

The subjects of the public hearing to be held during the 1:30 p.m. business meeting include the dockets listed below:

1. Knoll, Inc., D-1974-162-3. An application for the renewal of a 0.073 mgd discharge of industrial waste and non-contact cooling water from Knoll, Inc.'s industrial wastewater treatment plant (IWTP). The project IWTP discharges to the Perkiomen Creek, which is a tributary of the Schuylkill River. The project IWTP is located in Upper Hanover Township, Montgomery County, Pennsylvania.

2. Doylestown Borough, D-1979-018 CP-4. An application for the renewal of a groundwater withdrawal project with an expired DRBC docket, to continue a withdrawal of up to 50.6 mg/30 days to supply the applicant's public water supply system from existing Wells Nos. 7, 8, 9, 10, 11, and 12 in the Stockton Formation. The project is located in the Neshaminy Creek Watershed in the Borough of Doylestown, Bucks County, Pennsylvania, and is located in the southeastern Pennsylvania Ground Water Protected Area.

3. Nestle Purina PetCare Company, D-1984-002-4. An application for the renewal of a groundwater withdrawal project to continue the withdrawal of 25.92 mg/30 days to supply the applicant's industrial processes from existing Wells Nos. 2, 4, 5, and 6, completed in the Beekmantown Formation Aquifer. The project is located in the Jordon Creek Watershed in South Whitehall Township, Lehigh County, Pennsylvania and within the drainage area to the section of the non-tidal Delaware River known as the Lower Delaware, which is designated as Special Protection Waters.

4. Leidy's, Inc., D-1993-021-2. An application for the renewal of a groundwater withdrawal project with an expired DRBC docket, to continue a withdrawal of up to 3.45 mg/30 days to supply the applicant's industrial manufacturing processes from existing Wells Nos. PW-1, PW-2, and PW-3 in the Brunswick and Lockatong Formations. The project is located in the Skippack Creek Watershed in Souderton Borough, Montgomery County, Pennsylvania, and is located in the southeastern Pennsylvania Ground Water Protected Area.

5. Deerwood Country Club, D-1994-006-3. An application for renewal of a groundwater and surface water withdrawal project to continue the withdrawal of 6.7 mg/30 days to supply the irrigation system at the Deerwood Country Club from existing Wells Nos. 1, and 2 and two (2) existing surface water intakes. The project wells are located in the Englishtown Formation, and all wells and intakes are located in the Assiscunk Creek Watershed in Westhampton Township, Burlington County, New Jersey, in New Jersey Critical Water Supply Area 2.

6. Upper Hanover Authority, D-2004-017 CP-2. An application to approve the renewal of the Upper Hanover Authority Perkiomen WWTP. The WWTP will continue to discharge 0.098 mgd of treated sewage effluent to Perkiomen Creek, a tributary of the Schuylkill River. The facility is located in Upper Hanover Township, Montgomery County, Pennsylvania.

7. City of Bethlehem, D-1971-078 CP-2. An application to update the docket for the City of Bethlehem's wastewater treatment plant (WWTP) to reflect an increase in the hydraulic design capacity of the WWTP from 15.5 mgd to 20 mgd. The expansion occurred in 1995 without DRBC approval. The WWTP will continue to discharge primarily to the Lehigh River at River Mile 183.66-9.51 (Delaware River—Lehigh River). Additionally, the old discharge outfall (Outfall 006 now acts as an emergency outfall and is located at River Mile 183.66-9.5-0.3 (Delaware River—Lehigh River—Saucon Creek). The project WWTP is located within the drainage area to the portion of the non-tidal Delaware River known as the Lower Delaware, which is designated as Special Protection Waters, in Bethlehem, Northampton County, Pennsylvania.

8. New Jersey American Water Company, D-1981-073 CP-4. An application for an existing groundwater withdrawal project to continue the withdrawal of 12.8 mg/30 days to supply the applicant's Homestead public water supply system from existing Wells Nos. 1 and 2 completed in the Upper Potomac/Raritan/Magothy Aquifer. The project is located in the Assiscunk Creek Watershed in Mansfield Township, Burlington County, New Jersey and is located in the New Jersey Critical Water Supply Area 2.

9. Stroudsburg Borough, D-1986-011 CP-2. An application for the approval of an expansion to the existing Stroudsburg Borough WWTP. The applicant proposes to expand the WWTP by adding a sequencing batch reactor (SBR) system, along with new headworks, equalization tanks, tertiary cloth media filters, UV disinfection, and a new outfall. The 2.5 mgd WWTP will be expanded to treat an average annual daily flow rate of 4.5 mgd. The WWTP will continue to discharge to McMichael's Creek. McMichael's Creek is a tributary to the Brodhead Creek, and the project WWTP is located within the drainage area to the section of the non-tidal Delaware River known as the Middle Delaware, which is classified as Special Protection Waters. The facility is located in the Borough of Stroudsburg, Monroe County, Pennsylvania.

10. Delaware County Solid Waste Authority, D-1989-018 CP-4. An application for the approval of the modification and expansion of the Delaware County Solid Waste Authority's (DCSWA) Rolling Hills leachate treatment plant (LTP) from 0.08 million gallons per day (mgd) to 0.115 mgd. Modifications include a clarifier, new ozone system, additional blowers, new pumps, and new boilers to ensure treatment process comply with permit limitations such as color, ammonia, and total dissolved solids (TDS). The LTP treats leachate from the Rolling Hills landfill and discharges to the Manatawny Creek at River Mile 92.47-54.15-12.2 (Delaware River—Schuylkill River—Manatawny Creek) through a diffused outfall. The project LTP is located in Earl Township, Berks County, Pennsylvania.

11. Baer Aggregates, Inc., D-1990-018-3. An application for the modification of an existing groundwater withdrawal project to include the addition of a surface water withdrawal from a groundwater-fed dewatering pit. The project proposes to continue withdrawal of 38.0 mg/30 days to supply the applicant's sand and gravel washing operations from existing Well Nos. 1, 2, 3, and 4 and the proposed dewatering pit. The project withdrawals are located in the Kittatinny Formation in Pohatcong Township, Warren County, New Jersey.

12. Gloucester County Utilities Authority, D-1990-074 CP-3. An application for the continued approval of a 27 mgd discharge of treated wastewater from the Gloucester County Utilities Authority (GCUA) WWTP. On May 6, 2009, the DRBC approved Docket No. D-2008-27-1 for the West Deptford Energy Station (WDES). WDES was approved to withdraw up to 7.5 mgd of GCUA's effluent for cooling water purposes and to discharge approximately 2.0 mgd of contact cooling water (CCW) back into GCUA's effluent stream. As a result of the WDES approval, a TDS and thermal mixing zone are required for the GCUA discharge (Outfall No. DSN001A). This application includes a thermal mixing zone of 164 feet and a TDS mixing zone of 105 feet, both applicable to Outfall No. DSN001A. The project WWTP is located in Water Quality Zone 4 at River Mile 89.7 (Delaware River), in West Deptford Township, Gloucester County, New Jersey.

13. Evesham Municipal Utilities Authority, D-1991-015 CP-3. An application for approval to construct three new infiltration basins and the related force main required for conveyance. Docket No. D-1991-015 CP-2 approved the discharge of treated effluent to two infiltration basins and a spray field for the Kings Grant WWTP. The three new infiltration basins will replace the spray field component of the treatment process. The project WWTP and appurtenant facilities are located adjacent to an UNT to the South Branch Rancocas Creek near River Mile 111.06-15.41-8.65-0.36 (Delaware River—Rancocas Creek—South Branch Rancocas Creek—UNT). The facilities are located along Tomlinson Mill-Taunton Road, in Evesham Township, Burlington County, New Jersey.

14. Borough of Woodstown, D-1999-004 CP-2. An application for approval of a groundwater withdrawal project to supply up to 13 mg/30 days of water to the applicant's public supply distribution system from new Well No. 6 and to increase the existing withdrawal from all wells from 18.1 mg/30 days to 18.843 mg/30 days. The project is located in the Salem River and Oldmans Creek watersheds in Woodstown Borough, Salem County, New Jersey.

15. Quakertown Borough, D-2000-064 CP-2. The purpose of this project is to approve the addition of new Well No. 9 to the docket holder's distribution system and to continue to provide up to 51.1 mg/30 days of water to the docket holder's distribution system. The proposed total allocation of groundwater is not an increase in allocation from the prior docket. New Well No. 9 will replace existing Well No. 7 due to declining production rates. The docket holder will retain Well No. 7 as a back-up source of water. The project is located in the Brunswick Formation in the Tohickon Creek Watershed in Quakertown Borough, Bucks County, Pennsylvania and is located in the southeastern Pennsylvania Ground Water Protected Area. This withdrawal project is located within the drainage area to the section of the non-tidal Delaware River known as the Lower Delaware, which is classified as Special Protection Waters.

16. Penn Estates Utilities, Inc., D-2003-036 CP-2. An application for approval of a groundwater withdrawal project to supply up to 1.296 mg/30 days of water to the applicant's public water supply system from new Well No. 8 and to increase the existing withdrawal from all wells from 10.80 mg/30 days to 12.025 mg/30 days. The increased allocation is requested in order to meet current needs in service area demand. The project is located in the Trimmers Rock Formation in the Brodhead Creek Watershed in Stroud Township, Monroe County, Pennsylvania. The site is located within the drainage area to the section of the non-tidal Delaware River known as the Middle Delaware, which is designated as Special Protection Waters.

17. City of Bordentown, D-2004-011 CP-2. An application for the renewal of a groundwater withdrawal project to increase withdrawal from 96 mg/30 days to 118 mg/30 days to supply the applicant's public water supply system from existing Well Nos. 1, 2, 3, and 4 completed in the Potomac/Raritan/Magothy Aquifer. The increased allocation is requested in order to meet projected increases in service area demand. The project is located in the Crosswicks Creek Watershed in Hamilton Township, Mercer County, New Jersey.

18. U.S. Army Corps of Engineers (USACE), D-2005-32 CP-2. An application for approval to modify the existing spillway of the Prompton Dam. The project proposes to extend the existing 85-foot long spillway to approximately 130 feet. The project also includes the construction of a soil retention wall and other improvements to the spillway, as well as a new operations building and access bridge. The Prompton Dam is a flood control structure located on the West Branch Lackawaxen River in Prompton Borough, Wayne County, Pennsylvania. The dam is located within the drainage area to the section of the non-tidal Delaware River known as the Upper Delaware which is classified as Special Protection Waters.

19. Ruscombmanor Township, D-2007-034 CP-2. An application to modify the hydraulic design capacity of the Golden Oaks WWTP. On March 11, 2009 the Commission approved Docket No. D-2007-34 CP-1 providing for an expansion of the Golden Oaks WWTP from 0.025 mgd to 0.075 mgd. However, due to funding constraints, the expansion is being curtailed to 0.05 mgd. The WWTP is located in the Schuylkill River Watershed at River Mile 92.47-54.15-16.75-1.03-3.63-2.17 (Delaware River—Schuylkill River—Manatawny Creek—Little Manatawny Creek—Furnace Creek—UNT) in Ruscombmanor Township, Berks County, Pennsylvania.

20. Yukiguni Maitake Manufacturing Corporation of America, D-2003-026-1. An application for approval of a groundwater withdrawal project to supply up to 13.14 mg/30 days of water to the applicant's mushroom facility from new Well No. 001. The project is located in the Lower Devonian and Sulurian Formations in the Basher Kill Watershed in Mamakating Township, Sullivan County, New York. The site is located within the drainage area to the section of the non-tidal Delaware River known as the Upper Delaware, which is designated as Special Protection Waters.

21. Gemstar Development Corporation, D-2008-018-1. An application for approval to construct the new 24,000 gallons per day (gpd) Heiden Road WWTP. The WWTP will discharge to Sheldrake Stream, a Class B tributary that flows into the Neversink River, a tributary to the section of the non-tidal Delaware River known as the Upper Delaware, which is designated as Special Protection Waters. The project is located in the Town of Thompson, Sullivan County, New York.

22. CBH20, LP, D-2008-026-1. An application for approval of a groundwater withdrawal project to supply up to 5.71 mg/30 days of water to the applicant's public water supply system from existing Well No. PWS-4 and new Wells Nos. PWS-2 and PWS-3. The project is located in the Devonian-age, Long Run Member of the Catskill Formation in the Pocono Creek Watershed in Pocono Township, Monroe County, Pennsylvania. The site is located within the drainage area to the section of the non-tidal Delaware River known as the Middle Delaware, which is designated as Special Protection Waters.

23. Yukiguni Maitake Manufacturing Corporation of America, D-2008-035-1. An application for approval of the construction of the Yukiguni Maitake Mushroom growing facility [pilot mushroom growing facility (1-story, 44,100 square foot building)], with three land discharges. The first and second discharges are to a three-bay infiltration basin system. The third is a leach field discharge from an on-site septic tank. The three-bay infiltration basin system will accept up to 55,000 gpd, 51,000 gpd of which will be from the geothermal system (Outfall No. 005) and the remaining 4,000 gpd will be from process water (Outfall No. 002). The leach field will discharge up to 1,000 gpd of sanitary wastewater (Outfall No. 001) from the on-site septic tank. The project is located in the Basher Kill Watershed in Mamakating Township, Sullivan County, New York, within the drainage area to the section of the non-tidal Delaware River known as the Upper Delaware, which is designated as Special Protection Waters.

24. FiberMark, Inc., D-2009-005-1. An application for the approval of an existing 0.09 mgd discharge of non-contact cooling water (NCCW). The facility discharges NCCW to an injection well in accordance with Docket No. D-82-31 Renewal 3. The surface discharge related to this application is to be used only during the emergency conditions also described in Docket No. D 82-31 Renewal 3. The project will continue to discharge to River Mile 157.00-11.75-11.68-0.86 (Delaware River—Tohickon Creek—Beaver Run—Unnamed Tributary (UNT)). The NCCW discharge is located on an UNT of Beaver Run, which is a tributary to the Lower Delaware Special Protection Water Area, and has been classified as Significant Resource Waters. The facility is located in Quakertown Borough, Bucks County, Pennsylvania.

25. Fleischmanns Village, D-2009-008 CP-1. An application for approval of a groundwater withdrawal project to supply up to 9.75 mg/30 days of water to the applicant's public water supply from existing Wells Nos. 2 and 4, new Well No. 5, rehabilitated existing Well No. 3, and existing spring-fed surface water source (Spring Nos. 3, 4, and 5). The allocation is requested in order to meet existing and projected demands in the project service area. The project wells are located in the Lower Walter Formation, and all water sources are located in the Bush Kill Watershed in the Village of Fleischmanns, Delaware County, New York. The site is located within the drainage area of the section of the non-tidal Delaware River known as the Upper Delaware, which is designated as Special Protection Waters.

26. National Gypsum Company, D-2009-009-1. An application for approval of a groundwater withdrawal project to supply up to 5.27 mg/30 days of water to the applicant's existing industrial processes from existing Well No. 2 and replacement Well No. 1R and to limit the existing withdrawal from each well to 2.635 mg/30 days. The applicant has not previously applied for a docket for its existing industrial process. The project is located in the Raritan Aquifer in the Delaware River Watershed in the City of Burlington, Burlington County, New Jersey.

27. DMV International, D-2009-011-1. An application for approval of an existing 0.72 mgd discharge of NCCW from Outfall No. 001 to the West Branch Delaware River. Outfall No. 001 is located at River Mile 330.70-52.93 (Delaware River—West Branch Delaware River) within the drainage area of the section of the non-tidal Delaware River known as the Upper Delaware, which is designated as Special Protection Waters.. The facility is located in the Town of Delhi, Delaware County, New York.

28. Essroc Cement Corporation, D-2009-016-1. An application for approval of an existing NCCW discharge of 0.264 mgd from the Essroc Cement Corporation Portland Cement manufacturing facility. The manufacturing facility is located in the Lower Special Protection Waters drainage area and discharges to an UNT of Shoeneck Creek that PADEP has classified as a Warm Water Fishery. It is located at River Mile 184.03-5.85-4.1-0.15 (Delaware River—Bushkill Creek—Shoeneck Creek—UNT) in Upper Nazareth Township, Northampton County, Pennsylvania.

The business meeting also will include adoption of the Minutes of the Commission's July 15, 2009 business meeting; announcements of upcoming DRBC advisory committee meetings and other events relating to watershed management in the basin; a report on hydrologic conditions; a report by the Executive Director; a report by the Commission's General Counsel; and consideration by the Commission of resolutions to (a) approve the FY 2010-2015 Water Resources Program; (b) authorize the Executive Director to enter into contracts with consultants to upgrade the Commission's Web site; (c) authorize the Executive Director to establish an integral part trust and adopt the ICMA Retirement Corporation's VantageCare Retirement Health Savings Employer Investment Program for purposes of GASB 45 compliance; and (d) amend the Commission's Investment Policy Manual to provide guidelines for the investment of assets placed in an integral part trust for purposes of GASB 45 compliance. An opportunity for public dialogue will be provided at the end of the meeting.

Draft dockets scheduled for public hearing on October 22, 2009 can be accessed through the Notice of Commission Meeting and Public Hearing on the Commission's Web site, drbc.net, ten days prior to the meeting date. Additional public records relating to the dockets may be examined at the Commission's offices. Please contact William Muszynski at 609-883-9500, extension 221, with any docket-related questions.

Note that conference items are subject to change and items scheduled for hearing are occasionally postponed to allow more time for the Commission to consider them. Please check the Commission's Web site, drbc.net, closer to the meeting for changes that may be made after the deadline for filing this notice.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: September 29, 2009.
Pamela M. Bush,
Commission Secretary.

[FR Doc. E9-23920 Filed 10-2-09; 8:45 am]

BILLING CODE 6360-01-P